GOVERNMENT ACCOUNTABILITY OFFICE

Medicare Payment Advisory Commission Nominations

AGENCY: Government Accountability Office (GAO).

ACTION: Notice on letters of nomination.

SUMMARY: The Balanced Budget Act of 1997 established the Medicare Payment Advisory Commission (MedPAC) and gave the Comptroller General responsibility for appointing its members. For appointments to MedPAC that will be effective May 1, 2015, I am announcing the following: Letters of nomination and resumes should be submitted by March 13, 2015 to ensure adequate opportunity for review and consideration of nominees prior to the appointment of new members.

ADDRESSES:

Email: MedPACappointments@gao.gov

Mail: U.S. GAO, Attn: MedPAC Appointments, 441 G Street NW., Washington, DC 20548

FOR FURTHER INFORMATION CONTACT: GAO Office of Public Affairs, (202) 512-4800.

42 U.S.C. 1395b-6.

Gene L. Dodaro,
Comptroller General of the United States.

[FR Doc. 2015-00759 Filed 1-20-15; 8:45 am]

BILLING CODE 1610-02-M